DEPARTMENT OF ENERGY

Office of Science; Basic Energy Sciences Advisory Committee

AGENCY: Department of Energy.

ACTION: Notice of open meeting.

SUMMARY: This notice announces a meeting of the Basic Energy Sciences Advisory Committee (BESAC). Federal Advisory Committee Act (Public Law 92-463, 86 Stat. 770) requires that public notice of these meetings be announced in the Federal Register.

DATES: Wednesday, November 14, 2001, 8:00 a.m. to 5:00 p.m., and Thursday, November 15, 2001, 8:00 a.m. to 12:00 p.m.

ADDRESSES: Gaithersburg Marriott Washingtonian Center, 9751 Washingtonian Boulevard, Gaithersburg, MD 20878.

FOR FURTHER INFORMATION CONTACT: Sharon Long; Office of Basic Energy Sciences; U. S. Department of Energy; 19901 Germantown Road; Germantown, MD 20874-1290; Telephone: (301) 903-5565.

SUPPLEMENTARY INFORMATION: Purpose of the Meeting: The purpose of this meeting is to provide advice and guidance with respect to the basic energy sciences research program.

Tentative Agenda: Agenda will include discussions of the following:

Wednesday, November 14, 2001

• Welcome and Introduction

• News from Basic Energy Sciences

• Presentations from the Nanoscale Science Research Centers

• Molecular Foundry, Lawrence Berkeley National Laboratory

• Center for Nanophase Materials Sciences, Oak Ridge National Laboratory

• Center for Integrated Nanotechnologies, Los Alamos National Laboratory and the Sandia National Laboratory

Thursday, November 15, 2001

• BESAC Discussion of Nanoscale Science Activities

• Brief Update on the Linac Coherent Light Source

Public Participation: The meeting is open to the public. If you would like to file a written statement with the Committee, you may do so either before or after the meeting. If you would like to make oral statements regarding any of the items on the agenda, you should contact Sharon Long at 301-903-6594 (fax) or sharon.long@science.doe.gov (e-mail). You must make your request for an oral statement at least 5 business days prior to the meeting. Reasonable provision will be made to include the scheduled oral statements on the agenda. The Chairperson of the Committee will conduct the meeting to facilitate the orderly conduct of business. Public comment will follow the 10-minute rule.

Minutes: The minutes of this meeting will be available for public review and copying within 30 days at the Freedom of Information Public Reading Room; 1E-190, Forrestal Building; 1000 Independence Avenue, SW.; Washington, DC 20585; between 9:00 a.m. and 4:00 p.m., Monday through Friday, except holidays.

Issued in Washington, DC on October 25, 2001.
Rachel M. Samuel,
Deputy Advisory Committee, Management Officer.

[FR Doc. 01-27123 Filed 10-26-01; 8:45 am]

BILLING CODE 6450-01-P